DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(A)). This program helps to ensure that requested data can be provided in the desired format, reporting burden (time and financial resources) is minimized, collection instruments are clearly understood, and the impact of collection requirements on respondents can be properly assessed. Currently, the Employment and Training Administration is soliciting comments concerning the proposed extension collection of data contained on the Job Order and Work Application.

A copy of the proposed information collection request can be obtained by contacting the office listed in the addressees section of this notice.

DATES: Written comments must be submitted to the office listed in the addressees section below on or before January 16, 2000.

ADDRESSES:

Grace A. Kilbane, Administrator, Office of Workforce Security, Employment and Training Administration, 200 Constitution Avenue, NW., Rm. S-4231, Washington, DC 20210; (202) 219-7831 (not a toll-free number); Internet address: GKilbane@doleta.gov; and/or Fax: (202) 219-8506); or

Eric R. Johnson, Director, Office of Career Transition Assistance, Employment and Training Administration, 200 Constitution Avenue, NW., Rm. S-231, Washington, DC 20210; (202) 219-7831 (not a toll-free number); Internet address: ejohnson@doleta.gov; and/or Fax: (202) 219-0323).

SUPPLEMENTARY INFORMATION:

I. Background

States collect basic labor exchange information, using a system of their choice. The exact information to be collected is determined by the State. It is information that is essential to the operation of the labor exchange job placement service and normally collected as part of Job Matching. At a minimum, information to be collected is that which enables the State to comply with regulations at 20 CFR part 652, and the Wagner-Peyser Act, as amended. The requirement to retain information under 20 CFR 652.8(d)(5) is: “Each State shall retain basic documents for the minimum period specified below:”

(i) work application: one year

(ii) Job order: one year.”

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval under the Paperwork Reduction Act of 1995 (44 U.S.C. 3506(c)(2)(A) of an extension to previously approved record keeping requirement assigned OMB Control No. 1205-0001. There is no change in burden.

Type of Review: Extension, without change.

Agency: Employment and Training Administration.

Title: Work Application/Job Order Record keeping.

OMB Number: 1205-0001.

Frequency: Record keeping.

Affected Public: State governments.

Number of Respondents: 52.

Estimated Cost Per Respondent: No cost to respondent.

Estimated Burden Hours: 208.

Items | States* | Hours per year | Total (hours)
Worker Application | 52 | 4 | 208
Job Order | 52 | 4 | 208
*52 States include Puerto Rico and the District of Columbia.

Comments submitted in response to this notice will be summarized and/or included in the request for Office of Management and Budget approval of the information collection request; they will also become a matter of public record.

Dated: October 17, 2000.
Grace A. Kilbane,
Administrator, Office of Workforce Security.

[FR Doc. 00-29038 Filed 11-13-00; 8:45 am]

BILLING CODE 4510-30-M